DEPARTMENT OF STATE

[Public Notice: 10850]

Notice of Public Meeting

The Department of State will conduct an open meeting at 1:00 p.m. on Tuesday, August 27, 2019, in room 7M15-01 of the Douglas A. Munroe Coast Guard Headquarters Building at St. Elizabeth's, 2703 Martin Luther King Jr. Avenue SE, Washington, DC 20593. The primary purpose of the meeting is to prepare for the sixth session of the International Maritime Organization's (IMO) Sub-Committee on Carriage of Cargoes and Containers to be held at the IMO Headquarters, United Kingdom, September 9-13, 2019.

The agenda items to be considered include:

—Adoption of the agenda

—Decisions of other IMO bodies

—Amendments to the IGF Code and development of guidelines for low-flashpoint fuels

—Amendments to the IGC and IGF Codes to include high manganese austenitic steel and related guidance for approving alternative metallic material for cryogenic service

—Amendments to the IMSBC Code and supplements

—Amendments to the IMDG Code and supplements

—Amendments to the CSS Code with regard to weather-dependent lashing

—Unified interpretation of provisions of IMO safety, security, and environment-related conventions

—Consideration of reports of incidents involving dangerous goods or marine pollutants in packaged form on board ships or in port areas

—Revision of the Inspection programmes for cargo transport units carrying dangerous goods (MSC.1/Circ.1442, as amended by MSC.1/Circ.1521)

—Biennial status report and provisional agenda for CCC 7

—Election of Chair and Vice-Chair for 2020

—Any other business

—Report to the Committees

Members of the public may attend this meeting up to the seating capacity of the room. Upon request to the meeting coordinator, members of the public may also participate via teleconference, up to the capacity of the teleconference phone line. To facilitate the building security process, and to request reasonable accommodation, those who plan to attend should contact the meeting coordinator, Dr. Amy Parker, by email at Amy.M.Parker@uscg.mil, by phone at (202) 372-1423, or in writing at 2703 Martin Luther King Jr. Ave. SE, Stop 7509, Washington DC 20593-7509 not later than August 22, 2019, six days prior to the meeting. Requests made after August 22, 2019 might not be able to be accommodated. Please note that due to security considerations, two valid, government issued photo identifications must be presented to gain entrance to the Coast Guard Headquarters building. USCG Headquarters is accessible by taxi, public transportation, and privately owned conveyance (upon request).

Jeremy M. Greenwood,
Coast Guard Liaison Officer, Office of Ocean and Polar Affairs, U.S. Department of State.

[FR Doc. 2019-17544 Filed 8-14-19; 8:45 am]

BILLING CODE 4710-09-P